DEPARTMENT OF JUSTICE

Antitrust Division

Notice Pursuant to the National Cooperative Research and Production Act of 1993—Open Mobile Alliance

Notice is hereby given that, on January 26, 2017, pursuant to Section 6(a) of the National Cooperative Research and Production Act of 1993, 15 U.S.C. 4301 et seq. (“the Act”), Open Mobile Alliance (“OMA”) has filed written notifications simultaneously with the Attorney General and the Federal Trade Commission disclosing changes in its membership. The notifications were filed for the purpose of extending the Act's provisions limiting the recovery of antitrust plaintiffs to actual damages under specified circumstances. Specifically, Adups Tech., Co., Ltd., Zhangjian, Shanghai, People's Republic of China; IOTEROP, Montpellier, France; Mind Reader (MR Lab), ZheJiang, People's Republic of China; Nautes Technology Inc., Anyang-si, Gyeonggi-do, Republic of Korea; Open Source Alliance, Jung-gu, Seoul, Republic of Korea; Pratt and Miller Engineering, New Hudson, MI; Schneider-Electric, Eybens, France; Telit Communications S.p.a., Sgonico, Italy; and WINITECH Co., Ltd., Nan-gu, Daegu, Republic of Korea, have been added as parties to this venture.

Also, Anritsu Ltd., Bedfordshire, United Kingdom; China Telecommunications Corporation, Xicheng District, Beijing, People's Republic of China; China Unicom, Xicheng District, Beijing, People's Republic of China; Fujitsu Limited, Yokohama, Japan; General Mobile Corporation, Taipei, Taiwan; KDDI Corporation, Tokyo, Japan; Micosa, Inc., Redwood City, CA; TA Technology (Shanghai) Co., Ltd., Torino, Italy; and Telecom Italia S.p.A., Tornio, Italy, have withdrawn as parties to this venture.

No other changes have been made in either the membership or planned activity of the group research project. Membership in this group research project remains open, and OMA intends to file additional written notifications disclosing all changes in membership.

On March 18, 1998, OMA filed its original notification pursuant to Section 6(a) of the Act. The Department of Justice published a notice in the Federal Register pursuant to Section 6(b) of the Act on December 31, 1998 (63 FR 72333).

The last notification was filed with the Department on June 13, 2016. A notice was published in the Federal Register pursuant to Section 6(b) of the Act on July 18, 2016 (81 FR 46702).

Patricia A. Brink,
Director of Civil Enforcement, Antitrust Division.

[FR Doc. 2017-04244 Filed 3-3-17; 8:45 am]

BILLING CODE P